DEPARTMENT OF TRANSPORTATION

Federal Aviation Administration

14 CFR Part 39

[Docket No. FAA-2019-0438; Product Identifier 2019-NM-033-AD]

RIN 2120-AA64

Airworthiness Directives; The Boeing Company Airplanes

AGENCY: Federal Aviation Administration (FAA), DOT.

ACTION: Supplemental notice of proposed rulemaking (SNPRM); reopening of comment period.

SUMMARY: The FAA is revising an earlier proposal for all The Boeing Company Model 757 airplanes. This action revises the notice of proposed rulemaking (NPRM) by reducing the compliance time for certain airplane configurations. The FAA is proposing this airworthiness directive (AD) to address the unsafe condition on these products. Since these actions would impose an additional burden over those in the NPRM, the FAA is reopening the comment period to allow the public the chance to comment on these changes.

DATES: The comment period for the NPRM published in the Federal Register on June 28, 2019 (84 FR 30958), is reopened.

The FAA must receive comments on this SNPRM by January 16, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this SNPRM, contact Boeing Commercial Airplanes, Attention: Contractual & Data Services (C&DS), 2600 Westminster Blvd., MC 110-SK57, Seal Beach, CA 90740-5600; telephone 562-797-1717; internet https://www.myboeingfleet.com. You may view this service information at the FAA, Transport Standards Branch, 2200 South 216th St., Des Moines, WA. For information on the availability of this material at the FAA, call 206-231-3195. It is also available on the internet at https://www.regulations.gov by searching for and locating Docket No. FAA-2019-0438.

Examining the AD Docket

You may examine the AD docket on the internet at https://www.regulations.gov by searching for and locating Docket No. FAA-2019-0438; or in person at Docket Operations between 9 a.m. and 5 p.m., Monday through Friday, except Federal holidays. The AD docket contains this SNPRM, the regulatory evaluation, any comments received, and other information. The street address for Docket Operations is listed above. Comments will be available in the AD docket shortly after receipt.

FOR FURTHER INFORMATION CONTACT: Peter Jarzomb, Aerospace Engineer, Airframe Section, FAA, Los Angeles ACO Branch, 3960 Paramount Boulevard, Lakewood, CA 90712-4137; phone: 562-627-5234; fax: 562-627-5210; email: peter.jarzomb@faa.gov.

SUPPLEMENTARY INFORMATION:

Comments Invited

The FAA invites you to send any written relevant data, views, or arguments about this proposal. Send your comments to an address listed under the ADDRESSES section. Include “Docket No. FAA-2019-0438; Product Identifier 2019-NM-033-AD” at the beginning of your comments. The FAA specifically invites comments on the overall regulatory, economic, environmental, and energy aspects of this SNPRM. The FAA will consider all comments received by the closing date and may amend this SNPRM because of those comments.

The FAA will post all comments, without change, to https://www.regulations.gov, including any personal information you provide. The FAA will also post a report summarizing each substantive verbal contact the agency receives about this SNPRM.

Discussion

The FAA issued an NPRM to amend 14 CFR part 39 by adding an AD that would apply to all The Boeing Company Model 757 airplanes. The NPRM published in the Federal Register on June 28, 2019 (84 FR 30958). The NPRM was prompted by a report that during a maintenance check an operator discovered cracking of the aft cargo compartment frames in the station 1460 frame web and inner chord between stringers S-26 and S-27 near an existing repair. The NPRM proposed to require an inspection of the fuselage frames for any existing repair, repetitive surface high frequency eddy current (HFEC) inspections of the fuselage frames with a cargo liner support channel for any cracking, and applicable on-condition actions.

Actions Since the NPRM was Issued

Since the FAA issued the NPRM, the agency has determined that, for certain airplane configurations, the compliance time must be reduced because these airplanes are subject to higher fatigue loads, which could result in cracking at the frame web and inner chord prior to the compliance times specified in the NPRM.

Comments

The FAA gave the public the opportunity to comment on the NPRM. The following presents the comments received on the NPRM and the FAA's response to each comment.

Support for the NPRM

Boeing, United Airlines (UAL), and Patrick Imperatrice stated their support for the NPRM.

Effect of Winglets on Accomplishment of the Proposed Actions

Aviation Partners Boeing stated that accomplishing Supplemental Type Certificate (STC) ST01518SE does not affect the actions specified in the proposed AD.

The FAA agrees with the commenter. The FAA has redesignated paragraph (c) of the proposed AD (in the NPRM) as paragraph (c)(1) of this proposed AD and added paragraph (c)(2) to this proposed AD to state that installation of STC ST01518SE does not affect the ability to accomplish the actions required by this AD. Therefore, for airplanes on which STC ST01518SE is installed, a “change in product” alternative method of compliance (AMOC) approval request is not necessary to comply with the requirements of 14 CFR 39.17.

Request To Use Later-Approved Service Information

An anonymous commenter requested that the FAA allow the use of later-approved service information. The commenter stated that doing so would ensure that operators are promptly in compliance with the proposed AD and that all maintenance is certified to the latest-approved version of the maintenance data. The commenter stated that this allowance would remove the wait-time for the proposed AD to be revised to require later revisions of service information, and it would reduce the time it takes to implement the service information and the maintenance costs associated with requesting an AMOC. The commenter noted that the European Union Aviation Safety Agency (EASA) already incorporates the “or later revision” statement in its ADs, and this could demonstrate further harmonization of regulatory control.

The FAA disagrees with the commenter's request. The FAA may not refer to any document that does not yet exist in an AD. In general terms, the FAA is required by Office of the Federal Register (OFR) regulations for approval of materials incorporated by reference, as specified in 1 CFR 51.1(f), to either publish the service document contents as part of the actual AD language; or submit the service document to the OFR for approval as referenced material, in which case the FAA may only refer to such material in the text of an AD. ADs may refer to the service document only if the OFR approved it for incorporation by reference. See 1 CFR 51.

To allow operators to use later revisions of the referenced document (issued after publication of the AD), either the FAA must revise the AD to reference specific later revisions, or operators or the manufacturer must request approval to use later revisions as an AMOC with the AD. The FAA has not changed this proposed AD regarding this issue.

Request To Use an Approved Document for the Inspections

FedEx requested that the proposed AD be revised to include FAA Form 8110-3 as an approved document for alternative inspections provision in note (a) 2. of Boeing Alert Requirements Bulletin 757-53A0113 RB, dated February 22, 2019. FedEx stated that note (a) 2. to tables 1 through 6 of Boeing Alert Requirements Bulletin 757-53A0113 RB, dated February 22, 2019, states that it is not a requirement to do the inspections, in accordance with Boeing Alert Requirements Bulletin 757-53A0113 RB, in areas where a repair covers the affected inspection area if the repair was approved by the Boeing Organization Designation Authorization (ODA) using an FAA Form 8100-9, which contains a repetitive inspection program for the subject area.

The FAA disagrees with the commenter's request. Note (a) 2. of Boeing Alert Requirements Bulletin 757-53A0113 RB, dated February 22, 2019, addresses repairs that are designed as corrective actions to address the unsafe condition, which include a follow-on inspection program. The FAA allows FAA Form 8100-9 for approved repairs that meet the specified criteria, because it is used by the Boeing ODA. The ODA staff are familiar with the unsafe condition addressed by this proposed AD and are able to develop a repair and repetitive inspection program that adequately addresses the unsafe condition. FAA Form 8110-3 is for use by a consultant designated engineering representative (DER), who may not have the same data or knowledge of the unsafe condition as the ODA. For this reason, the FAA does not allow approvals granted via an FAA Form 8110-3 under the provisions of note (a) 2. of Boeing Alert Requirements Bulletin 757-53A0113 RB, dated February 22, 2019. However, operators may request approval of an AMOC under the provisions of paragraph (i) of this proposed AD. The FAA has not changed this proposed AD regarding this issue.

Request That Certain Notes Not Be Required in the Service Information

FedEx requested that the notes in paragraph “5.A., General Information,” of Boeing Alert Requirements Bulletin 757-53A0113 RB, dated February 22, 2019, only be applied to Boeing Alert Service Bulletin 757-53A0113, dated February 22, 2019. FedEx stated that these notes are just for general information and should not be subject to the proposed AD. FedEx commented that other operators and maintenance, repair, and overhaul (MRO) facilities have acceptable maintenance practices that are approved under 14 CFR 121 and 14 CFR 145. FedEx stated if a note is to be regulated by the proposed AD, then the note should be listed under paragraph “5.B., Work Instructions” of Boeing Alert Requirements Bulletin 757-53A0113 RB, dated February 22, 2019.

The FAA agrees to clarify. The notes contained in paragraph “5.A., General Information,” of Boeing Alert Requirements Bulletin 757-53A0113 RB, dated February 22, 2019, provide provisions to define or explain different aspects of the service information, including inspection types, dimensions and tolerances, and other information. In general, these notes are relieving. If certain notes were not included in Boeing Alert Requirements Bulletin 757-53A0113 RB, dated February 22, 2019, operators would need to request AMOC approvals for items like fastener substitutions and tolerances for different dimensions or torque values. Therefore, operators should not need AMOCs for items covered by the notes. The FAA has not changed this proposed AD regarding this issue.

Request To Remove Open and Close Access Requirements

FedEx requested that either open and close access requirements be removed from Boeing Alert Requirements Bulletin 757-53A0113 RB, dated February 22, 2019, or Boeing should return to issuing only “Alert Service Bulletins” with marked “RC” (required for compliance) steps. FedEx stated that tables 1 through 8 of paragraph “5.B.1., Requirements” of Boeing Alert Requirements Bulletin 757-53A0113 RB, dated February 22, 2019, include actions for open and close access. FedEx commented that having these actions within the Requirements Bulletin makes them mandatory and regulated under the proposed AD. FedEx stated that the reason for moving to Requirements Bulletins was to eliminate the need for an AMOC for items like access and general maintenance practices.

The FAA agrees to clarify. The open and close access steps are not identified in the “Action” column in the tables in the Accomplishment Instructions of Boeing Alert Requirements Bulletin 757-53A0113 RB, dated February 22, 2019, and therefore are not required by this AD. The open and close access steps in the “Refer to” column in the tables in the Accomplishment Instructions of Boeing Alert Requirements Bulletin 757-53A0113 RB, dated February 22, 2019, are only there to specify one method for open and close access if needed. Operators may use accepted methods for open and close access in accordance with the operator's maintenance or inspection program without obtaining approval of an AMOC. The FAA has not changed this proposed AD regarding this issue.

Request To Revise the NPRM for Certain Airplane Configurations

FedEx requested that the NPRM be revised for certain airplane configurations. FedEx stated that its Model 757-200 airplanes were converted to a configuration similar to Boeing Model 757-200SF airplanes using VT Mobile Aerospace Engineering (VTMAE) STC ST03562AT, and are no longer configured as a passenger airplane. FedEx commented that according to Boeing Alert Requirements Bulletin 757-53A0113 RB, dated February 22, 2019, its Model 757-200 fleet falls under groups 2, 7, and 10. FedEx also commented that per VTMAE STC ST03562AT, the area addressed by the proposed AD are not altered, but are subject to Model 757-200SF loads. Therefore, FedEx requested to utilize the inspections and methods for groups 2, 7, and 10 airplanes, but utilize the compliance times for groups 3 and 5 airplanes; this would reduce the repetitive interval from 6,000 flight cycles to 4,000 flight cycles. In addition, FedEx requested that this change be incorporated into the proposed AD so that it will not have to request an AMOC.

The FAA agrees with the commenter that VTMAE STC ST03562AT converts Model 757-200 passenger airplanes to a cargo configuration that is similar to Model 757-200SF airplanes. Since airplanes that have been modified from a passenger configuration to a freighter configuration by STC ST03562AT are subjected to increased freighter fatigue loads, these airplanes need to be inspected at the reduced compliance times. Therefore, the FAA has added paragraph (g)(2) to this proposed AD, which requires airplanes that have been converted from a passenger to freighter configuration using VTMAE STC ST03562AT, to do all applicable actions for groups 2, 7, and 10 airplanes as identified in, and in accordance with, the Accomplishment Instructions of Boeing Alert Requirements Bulletin 757-53A0113 RB, dated February 22, 2019, at the times specified for groups 3 and 5 airplanes, as applicable, in the “Compliance” paragraph of Boeing Alert Requirements Bulletin 757-53A0113 RB, dated February 22, 2019.

Related Service Information Under 1 CFR Part 51

The FAA reviewed Boeing Alert Requirements Bulletin 757-53A0113 RB, dated February 22, 2019. This service information describes procedures for a general visual inspection of the fuselage frames with a cargo liner support channel for any existing repair, repetitive surface HFEC inspections of the fuselage frames with a cargo liner support channel for any cracking, and applicable on-condition actions. On-condition actions include a general visual inspection of the fuselage frames adjacent to a frame with a severed inner chord for any existing repair, a detailed inspection and a surface HFEC inspection of the fuselage frames adjacent to a frame with a severed inner chord for any cracking, and repair. This service information is reasonably available because the interested parties have access to it through their normal course of business or by the means identified in the ADDRESSES section.

FAA's Determination

The FAA is proposing this AD because the agency evaluated all the relevant information and determined the unsafe condition described previously is likely to exist or develop in other products of the same type design. Certain changes described above expand the scope of the NPRM. As a result, the FAA has determined that it is necessary to reopen the comment period to provide additional opportunity for the public to comment on this SNPRM.

Proposed Requirements of This SNPRM

This SNPRM would require accomplishing the actions specified in the service information described previously, except as discussed under “Differences Between this Proposed AD and the Service Information.” For information on the procedures and compliance times, see this service information at https://www.regulations.gov by searching for and locating Docket No. FAA-2019-0438.

Differences Between This SNPRM and the Service Information

This proposed AD requires that airplanes that have been converted from a passenger to freighter configuration using VTMAE STC ST03562AT, do all applicable actions identified in, and in accordance with groups 2, 7 and 10 airplanes, of the Accomplishment Instructions of Boeing Alert Requirements Bulletin 757-53A0113 RB, dated February 22, 2019, at the applicable times specified in the “Compliance” paragraph for groups 3 and 5 airplanes, of Boeing Alert Requirements Bulletin 757-53A0113 RB, dated February 22, 2019. These airplanes are subject to higher fatigue loads and require a reduced compliance time from 6,000 flight cycles to 4,000 flight cycles.

Costs of Compliance

The FAA estimates that this proposed AD affects 544 airplanes of U.S. registry. The FAA estimates the following costs to comply with this proposed AD:

Estimated Costs for Required Actions
Action | Labor cost | Parts cost | Cost per product | Cost on U.S. operators
General visual inspection | 37 work-hours × $85 per hour = $3,145 | $0 | $3,145 | $1,710,880.
Repetitive surface HFEC inspections | Up to 37 work-hours × $85 per hour = Up to $3,145 per inspection cycle | 0 | Up to $3,145 per inspection cycle | Up to $1,710,880 per inspection cycle.

The FAA estimates the following costs to do any necessary on-condition inspections that would be required. The FAA has no way of determining the number of aircraft that might need these on-condition inspections:

Estimated Costs of On-Condition Actions
Labor cost | Parts cost | Cost per product
Up to 20 work-hour × $85 per hour = Up to $1,700 per inspection cycle | $0 | Up to $1,700 per inspection cycle.

The FAA has received no definitive data that would enable us to provide cost estimates for the on-condition repair specified in this proposed AD.

Authority for this Rulemaking

Title 49 of the United States Code specifies the FAA's authority to issue rules on aviation safety. Subtitle I, section 106, describes the authority of the FAA Administrator. “Subtitle VII: Aviation Programs” describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2019-0438; Product Identifier 2019-NM-033-AD.

(a) Comments Due Date

The FAA must receive comments by January 16, 2020.

(b) Affected ADs

None.

(c) Applicability

(1) This AD applies to all The Boeing Company Model 757-200, -200PF, -200CB, and -300 series airplanes, certificated in any category.

(2) Installation of Supplemental Type Certificate (STC) ST01518SE does not affect the ability to accomplish the actions required by this AD. Therefore, for airplanes on which STC ST01518SE is installed, a “change in product” alternative method of compliance (AMOC) approval request is not necessary to comply with the requirements of 14 CFR 39.17.

(d) Subject

Air Transport Association (ATA) of America Code 53, Fuselage.

(e) Unsafe Condition

This AD was prompted by a report that during a maintenance check an operator discovered cracking of the aft cargo compartment frames in the station 1460 frame web and inner chord between certain stringers. The FAA is issuing this AD to address cracking at the frame web and inner chord; such cracks could propagate until they cause a severed frame, which could result in additional undetected cracking in adjacent fuselage frames, and could ultimately result in reduced structural integrity of the aft cargo frames and consequent rapid decompression of the airplane.

(f) Compliance

Comply with this AD within the compliance times specified, unless already done.

(g) Required Actions

(1) Except as specified by paragraphs (g)(2) and (h) of this AD: At the applicable times specified in the “Compliance” paragraph of Boeing Alert Requirements Bulletin 757-53A0113 RB, dated February 22, 2019, do all applicable actions identified in, and in accordance with, the Accomplishment Instructions of Boeing Alert Requirements Bulletin 757-53A0113 RB, dated February 22, 2019.

Note 1 to paragraph (g): Guidance for accomplishing the actions required by this AD can be found in Boeing Alert Service Bulletin 757-53A0113, dated February 22, 2019, which is referred to in Boeing Alert Requirements Bulletin 757-53A0113 RB, dated February 22, 2019.

(2) For airplanes that have been converted from a passenger to freighter configuration using VT Mobile Aerospace Engineering (VTMAE) STC ST03562AT: Except as specified by paragraph (h) of this AD, at the times specified for groups 3 and 5 airplanes, as applicable, in the “Compliance” paragraph of Boeing Alert Requirements Bulletin 757-53A0113 RB, dated February 22, 2019, do all applicable actions for groups 2, 7, and 10 airplanes as identified in, and in accordance with the Accomplishment Instructions of Boeing Alert Requirements Bulletin 757-53A0113 RB, dated February 22, 2019.

(h) Exceptions to Service Information Specifications

(1) For purposes of determining compliance with the requirements of this AD: Where Boeing Alert Requirements Bulletin 757-53A0113 RB, dated February 22, 2019, uses the phrase “the original issue date of Requirements Bulletin 757-53A0113 RB,” this AD requires using “the effective date of this AD,” except where Boeing Alert Requirements Bulletin 757-53A0113 RB, dated February 22, 2019, uses the phrase “the original issue date of Requirements Bulletin 757-53A0113 RB” in a note or flag note.

(2) Where Boeing Alert Requirements Bulletin 757-53A0113 RB, dated February 22, 2019, specifies contacting Boeing for repair instructions or for alternative inspections: This AD requires doing the repair, or doing the alternative inspections and applicable on-condition actions before further flight using a method approved in accordance with the procedures specified in paragraph (i) of this AD.

(i) Alternative Methods of Compliance (AMOCs)

(1) The Manager, Los Angeles ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j)(1) of this AD. Information may be emailed to: 9-ANM-LAACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by The Boeing Company Organization Designation Authorization (ODA) that has been authorized by the Manager, Los Angeles ACO Branch, FAA, to make those findings. To be approved, the repair method, modification deviation, or alteration deviation must meet the certification basis of the airplane, and the approval must specifically refer to this AD.

(j) Related Information

(1) For more information about this AD, contact Peter Jarzomb, Aerospace Engineer, Airframe Section, FAA, Los Angeles ACO Branch, 3960 Paramount Boulevard, Lakewood, CA 90712-4137; phone: 562-627-5234; fax: 562-627-5210; email: peter.jarzomb@faa.gov.

(2) For service information identified in this AD, contact Boeing Commercial Airplanes, Attention: Contractual & Data Services (C&DS), 2600 Westminster Blvd., MC 110-SK57, Seal Beach, CA 90740-5600; telephone 562-797-1717; internet https://www.myboeingfleet.com. You may view this referenced service information at the FAA, Transport Standards Branch, 2200 South 216th St., Des Moines, WA. For information on the availability of this material at the FAA, call 206-231-3195.

Issued in Des Moines, Washington, on November 20, 2019.
Dorr Anderson,
Acting Director, System Oversight Division, Aircraft Certification Service.

[FR Doc. 2019-25721 Filed 11-29-19; 8:45 am]

BILLING CODE 4910-13-P